DEPARTMENT OF THE INTERIOR

National Park Service

[NPS-WASO-NAGPRA-16430; PPWOCRADN0-PCU00RP14.R50000]

Notice of Inventory Completion: California State University, Long Beach, and California State University, Sacramento, CA

AGENCY: National Park Service, Interior.

ACTION: Notice.

SUMMARY: California State University, Sacramento and California State University, Long Beach have completed an inventory of human remains and associated funerary objects in consultation with the appropriate Indian tribes or Native Hawaiian organizations, and have determined that there is a cultural affiliation between the human remains and associated funerary objects and present-day Indian tribes or Native Hawaiian organizations. Lineal descendants or representatives of any Indian tribe or Native Hawaiian organization not identified in this notice that wish to request transfer of control of these human remains and associated funerary objects should submit a written request to the California State University, Sacramento. If no additional requestors come forward, transfer of control of the human remains and associated funerary objects to the lineal descendants, Indian tribes, or Native Hawaiian organizations stated in this notice may proceed.

DATES: Lineal descendants or representatives of any Indian tribe or Native Hawaiian organization not identified in this notice that wish to request transfer of control of these human remains and associated funerary objects should submit a written request with information in support of the request to California State University, Sacramento at the address in this notice by October 10, 2014.

ADDRESSES: Dr. Orn Bodvarsson, Dean of the College of Social Sciences and Interdisciplinary Studies, CSUS, 6000 J Street, Sacramento, CA 95819-6109, telephone (916) 278-4864, email obbodvarsson@csus.edu.

SUPPLEMENTARY INFORMATION: Notice is here given in accordance with the Native American Graves Protection and Repatriation Act (NAGPRA), 25 U.S.C. 3003, of the completion of an inventory of human remains and associated funerary objects under the control of the California State University, Long Beach, and in the physical custody of California State University, Sacramento. The human remains and associated funerary objects were removed from 4-SJo-17, San Joaquin County, CA.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the California State University, Long Beach professional staff in consultation with representatives of the Buena Vista Rancheria of Me-wuk Indians of California; California Valley Miwok Tribe, California; Chicken Ranch Rancheria of Me-Wuk Indians of California; Ione Band of Miwok Indians of California; Jackson Rancheria of Me-Wuk Indians of California; Picayune Rancheria of the Chukchansi Indians of California; Santa Rosa Indian Community of the Santa Rosa Rancheria, California; Shingle Springs Band of Miwok Indians, Shingle Springs Rancheria (Verona Tract), California; Table Mountain Rancheria of California; Tule River Indian Tribe of the Tule River Reservation, California; and Tuolumne Band of Me-Wuk Indians of the Tuolumne Rancheria of California.

History and Description of the Remains

In 1967, human remains representing, at minimum, 15 individuals were removed from 4-SJo-17 in San Joaquin County, CA, during a salvage excavation project on private property. Faculty and students from what was then Long Beach State College (now California State University, Long Beach) and local volunteers conducted the excavations. The human remains and associated funerary objects included in this notice were transferred to California State University, Sacramento, from California State University, Long Beach, via California State University, Fresno, during the 1990s. The human remains of ten individuals from five burial features include one infant, one child, one juvenile, and seven adults (one female, one male, and five individuals of unknown sex). The human remains of two individuals, one infant and one adult, were documented as isolated human remains during the inventory of associated funerary objects from the site. The human remains of three individuals, one infant and two adults, were found during the review of sediment samples. No known individuals were identified. The 42 associated funerary objects are 33 fragments of non-human bone, 4 pieces of baked clay, 1 piece of daub, 1 flaked stone, 1 thermally altered rock, 1 modified human bone, and 1 piece of historic metal.

Based on burial patterns and artifact types, the human remains and associated funerary objects are dated to the Middle Horizon (2,500-2,000 B.P.). The establishment of a cultural chronology of the 4-SJo-17 collection relied upon the California Prehistoric Cultural Chronology and Artifact Classification System used by most regional archeologists. Multiple lines of evidence were used to determine the antiquity of this collection. Geographic, linguistic, archeological, and ethnographic evidence, as well as oral historical evidence presented at consultation, were used to determine cultural affiliation to the Eastern Miwok and Central Valley Yokuts peoples. The Eastern Miwok and Yokuts cultures of the Late Horizon (from 1,500 years ago to the European contact) are believed to have descended from the Middle Horizon cultures represented at this site, which lies on the border of the traditional territory of the Eastern Miwok and the Northern Valley Yokuts.

Determinations Made by the California State University, Sacramento, and California State University, Long Beach

Officials of California State University, Sacramento, and California State University, Long Beach have determined that:

• Pursuant to 25 U.S.C. 3001(9), the human remains described in this notice represent the physical remains of a minimum of 15 individuals of Native American ancestry.

• Pursuant to 25 U.S.C. 3001(3)(A), the 42 objects described in this notice are reasonably believed to have been placed with or near individual human remains at the time of death or later as part of the death rite or ceremony.

• Pursuant to 25 U.S.C. 3001(2), there is a relationship of shared group identity that can be reasonably traced between the Native American human remains and associated funerary objects and the Buena Vista Rancheria of Me-wuk Indians of California; California Valley Miwok Tribe, California; Chicken Ranch Rancheria of Me-Wuk Indians of California; Ione Band of Miwok Indians of California; Jackson Rancheria of Me-Wuk Indians of California; Picayune Rancheria of the Chukchansi Indians of California; Santa Rosa Indian Community of the Santa Rosa Rancheria, California; Shingle Springs Band of Miwok Indians, Shingle Springs Rancheria (Verona Tract), California; Table Mountain Rancheria of California; Tule River Indian Tribe of the Tule River Reservation, California; and Tuolumne Band of Me-Wuk Indians of the Tuolumne Rancheria of California.

Additional Requestors and Disposition

Lineal descendants or representatives of any Indian tribe or Native Hawaiian organization not identified in this notice that wish to request transfer of control of these human remains and associated funerary objects should submit a written request with information in support of the request to Dr. Orn Bodvarsson, Dean of the College of Social Sciences and Interdisciplinary Studies, CSUS, 6000 J Street, Sacramento, California, 95819-6109; telephone: (916) 278-4864, email: obbodvarsson@csus.edu, by October 10, 2014. After that date, if no additional requestors have come forward, transfer of control of the human remains and associated funerary objects to the Buena Vista Rancheria of Me-wuk Indians of California; California Valley Miwok Tribe, California; Chicken Ranch Rancheria of Me-Wuk Indians of California; Ione Band of Miwok Indians of California; Jackson Rancheria of Me-Wuk Indians of California; Picayune Rancheria of the Chukchansi Indians of California; Santa Rosa Indian Community of the Santa Rosa Rancheria, California; Shingle Springs Band of Miwok Indians, Shingle Springs Rancheria (Verona Tract), California; Table Mountain Rancheria of California; Tule River Indian Tribe of the Tule River Reservation, California; and Tuolumne Band of Me-Wuk Indians of the Tuolumne Rancheria of California may proceed.

California State University, Sacramento is responsible for notifying the Buena Vista Rancheria of Me-wuk Indians of California; California Valley Miwok Tribe, California; Chicken Ranch Rancheria of Me-Wuk Indians of California; Ione Band of Miwok Indians of California; Jackson Rancheria of Me-Wuk Indians of California; Picayune Rancheria of the Chukchansi Indians of California; Santa Rosa Indian Community of the Santa Rosa Rancheria, California; Shingle Springs Band of Miwok Indians, Shingle Springs Rancheria (Verona Tract), California; Table Mountain Rancheria of California; Tule River Indian Tribe of the Tule River Reservation, California; and Tuolumne Band of Me-Wuk Indians of the Tuolumne Rancheria of California that this notice has been published.

Dated: August 3, 2014.
Melanie O'Brien,
Acting Manager, National NAGPRA Program.

[FR Doc. 2014-21482 Filed 9-9-14; 8:45 am]

BILLING CODE 4312-50-P